DEPARTMENT OF ENERGY

Federal Energy Regulatory Commission

[Project No. 15008-000]

Notice of Preliminary Permit Application Accepted for Filing and Soliciting Comments, Motions To Intervene, and Competing Applications; Gridflex Energy, LLC

On September 23, 2019, Gridflex Energy, LLC filed an application for a preliminary permit, pursuant to section 4(f) of the Federal Power Act, proposing to study the feasibility of the Sweetwater Pumped Storage Hydro Project to be located in San Juan County, New Mexico. Gridflex Energy, LLC subsequently amended its application on January 3, 2020, and again on January 14, 2020. The sole purpose of a preliminary permit, if issued, is to grant the permit holder priority to file a license application during the permit term. A preliminary permit does not authorize the permit holder to perform any land-disturbing activities or otherwise enter upon lands or waters owned by others without the owners' express permission.

The proposed closed-loop pumped hydropower project would consist of the following new facilities: (1) A 9,000-foot-long, 40-foot-high dam impounding an upper reservoir with a total storage capacity of 5,000 acre feet, a reservoir surface elevation of 6,770 feet above mean sea level (msl), and a reservoir surface area of 120 acres; (2) 1,700-foot-long, 130-foot-high dam impounding a lower reservoir with a total storage capacity of 5,000 acre feet, a reservoir surface elevation of 5,685 feet msl, and a reservoir surface area of 163 acres; (3) two primary conduits including one concrete-lined vertical shaft 1,200 feet long by 25 feet in diameter, two concrete-and-steel-lined high pressure tunnels 5,000 feet long by 14 feet in diameter, and two concrete-lined tailrace tunnels 3,300 feet long by 16 feet in diameter; (4) a 500-foot-long, 80-foot-wide, 50-foot-high powerhouse complex constructed of concrete and metal formwork with three vertical shafts, each housing 200-megawatt variable-speed reversible pump-turbine and motor-generators; and (5) a 9.3-mile-long, 345-kilovolt transmission line with a tentative point of interconnection at the existing San Juan Generating Station; and (6) appurtenant facilities. Initial fill water, and make-up water for evaporation loss would be purchased from parties holding water rights associated with the San Juan Generating Station or otherwise associated with the San Juan River. The estimated annual generation of the project would be 1,051,200 megawatt hours.

Applicant Contact: Mr. Matthew Shapiro, Gridflex energy, LLC, 424 W. Pueblo St. #A, Boise, ID 83027; phone: (208) 246-9925.

FERC Contact: Benjamin Mann; Email: benjamin.mann@ferc.gov; phone: (202) 502-8127.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-15008-000.

More information about this project, including a copy of the application, can be viewed or printed on the eLibrary link of Commission's website at http://www.ferc.gov/docs-filing/elibrary.asp. Enter the docket number (P-15008) in the docket number field to access the document. For assistance, contact FERC Online Support.

Dated: January 15, 2020.
Nathaniel J. Davis, Sr.,
Deputy Secretary.

[FR Doc. 2020-00960 Filed 1-21-20; 8:45 am]

BILLING CODE 6717-01-P